FEDERAL COMMUNICATIONS COMMISSION

47 CFR Parts 1 and 96

[GN Docket No. 17-258; Report No. 3128]

Petition for Reconsideration of Action in Rulemaking Proceeding

AGENCY: Federal Communications Commission.

ACTION: Petition for reconsideration.

SUMMARY: A Petition for Reconsideration (Petition) has been filed in the Commission's rulemaking proceeding by John C. Gazzo, on behalf of CallComm.

DATES: Oppositions to the Petition must be filed on or before June 24, 2019. Replies to an opposition must be filed on or before July 2, 2019.

ADDRESSES: Federal Communications Commission, 445 12th Street SW, Washington, DC 20554.

FOR FURTHER INFORMATION CONTACT: Peter Trachtenberg, Mobility Division, Wireless Telecommunications Bureau (WTB), at (202) 418-7369, email: Peter.Trachtenberg@fcc.gov.

SUPPLEMENTARY INFORMATION: This is a summary of the Commission's document, Report No. 3128, released May 24, 2019. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Promoting Investment in the 3550-3700 MHz Band, GN Docket No. 17-258, FCC 18-149, published at 83 FR 63076, December 7, 2018. This document is being published pursuant to 47 CFR 1.429(e). See also 47 CFR 1.4(b)(1) and 1.429(f), (g).

Number of Petitions Filed: 1.

Federal Communications Commission.
Marlene Dortch,
Secretary.

[FR Doc. 2019-11913 Filed 6-6-19; 8:45 am]

BILLING CODE 6712-01-P